DEPARTMENT OF HOMELAND SECURITY

U.S. Customs and Border Protection

[1651-0023]

Request for Information

AGENCY: U.S. Customs and Border Protection (CBP), Department of Homeland Security.

ACTION: 60-Day notice and request for comments; extension of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than February 22, 2022) to be assured of consideration.

ADDRESSES: Written comments and/or suggestions regarding the item(s) contained in this notice must include the OMB Control Number 1651-0023 in the subject line and the agency name. Please use the following method to submit comments:

Email. Submit comments to: CBP_PRA@cbp.dhs.gov.

Due to COVID-19-related restrictions, CBP has temporarily suspended its ability to receive public comments by mail.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, telephone number 202-325-0056, or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Request for Information.

OMB Number: 1651-0023.

Form Number: CBP Form 28.

Current Actions: Extension with a decrease in burden previously reported.

Type of Review: Extension (with change).

Affected Public: Businesses.

Abstract: U.S. Customs and Border Protection (CBP) is authorized to collect the information requested on this form pursuant to 19 CFR 151.11, 19 CFR 142.3, and 19 CFR 181.72.

Under 19 U.S.C. 1500, and 1401a, Customs and Border Protection (CBP) is responsible for appraising merchandise by ascertaining or estimating its value; fixing the final classification of such merchandise under the tariff schedule; and fixing a rate of duty and final amount of duty to be paid on such merchandise. On occasions when the invoice or other documentation does not provide sufficient information for appraisement or classification, including for import compliance with trade agreements, preference treatment, or special provisions, CBP may request additional information using CBP Form 28, Request for Information. This form is sent by CBP personnel to importers, exporters, producers, or their agents, as applicable, requesting additional information. Additional authority to collect this information provided under 19 U.S.C. 1509. CBP Form 28 is provided for by 19 CFR 151.11.

Type of Information Collection: Request for Information (CBP Form 28).

Estimated Number of Respondents: 13,415.

Estimated Number of Annual Responses per Respondent: 1.

Estimated Number of Total Annual Responses: 13,415.

Estimated Time per Response: 2 hours.

Estimated Total Annual Burden Hours: 26,830.

Dated: December 17, 2021.
Seth D. Renkema,
Branch Chief, Economic Impact Analysis Branch, U.S. Customs and Border Protection.

[FR Doc. 2021-27768 Filed 12-21-21; 8:45 am]

BILLING CODE P